DEPARTMENT OF TRANSPORTATION

Federal Aviation Administration

14 CFR Part 71

[Docket No. FAA-2024-1157; Airspace Docket No. 24-AEA-2]

RIN 2120-AA66

Establishment and Amendment of Multiple United States Area Navigation (RNAV) Routes; Eastern United States; Correction

AGENCY: Federal Aviation Administration (FAA), DOT.

ACTION: Final rule; correction.

SUMMARY: This action corrects a final rule published by the FAA in the Federal Register on February 3, 2025, that establishes United States Area Navigation (RNAV) Route T-553 and amends RNAV Routes T-356, T-358, and T-479 in the eastern United States. This action adds the Martinsburg, WV (MRB), Very High Frequency Omnidirectional Range/Tactical Air Navigation (VORTAC) to the route description of RNAV Route T-356.

DATES: Effective date 0901 UTC, April 17, 2025. The Director of the Federal Register approves this incorporation by reference action under 1 CFR part 51, subject to the annual revision of FAA Order 7400.11 and publication of conforming amendments.

ADDRESSES: FAA Order 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

History

The FAA published a final rule in the Federal Register (90 FR 8775; February 3, 2025), amending and establishing multiple RNAV T-routes in support of the FAA's NextGen program. Subsequent to publication, the FAA determined that the Martinsburg, WV (MRB), VORTAC was inadvertently omitted from the route description of RNAV Route T-356. The addition of the Martinsburg VORTAC is necessary as RNAV Route T-356 must overlay VOR Federal Airway V-143, between the Martinsburg VORTAC and the KERRE, VA, Fix, for air traffic control required routing west of the Washington, DC area. Additionally, the FAA must add the Martinsburg VORTAC to the route description of RNAV Route T-356 as it is a turn of more than one degree. The addition of the Martinsburg VORTAC to RNAV Route T-356 does not substantively alter the route. This rule corrects this error by adding the Martinsburg VORTAC to the table listing the route description of RNAV Route T-356.

Correction to Final Rule

Accordingly, pursuant to the authority delegated to me, in Docket No. FAA-2024-1157 as published in the Federal Register on February 3, 2025 (90 FR 8775), FR Doc. 2025-02054, is corrected as follows:

1. On page 8776 correct the table “T-356 Greensboro, NC (GSO) to WIGGZ, PA [Amended]” to read:

T-356 Greensboro, NC (GSO) to WIGGZ, PA [Amended]
Greensboro, NC (GSO) | VORTAC | (Lat. 36°02′44.50″ N, long. 079°58′34.94″ W)
HURTT, VA | FIX | (Lat. 37°05′57.34″ N, long. 079°19′58.97″ W)
AIROW, VA | WP | (Lat. 37°14′48.69″ N, long. 079°13′47.48″ W)
ELLON, VA | FIX | (Lat. 37°30′06.59″ N, long. 079°11′13.79″ W)
Montebello, VA (MOL) | VOR/DME | (Lat. 37°54′01.89″ N, long. 079°06′24.80″ W)
CEROL, VA | FIX | (Lat. 38°18′59.12″ N, long. 078°47′38.77″ W)
KERRE, VA | FIX | (Lat. 38°38′30.98″ N, long. 078°31′56.58″ W)
Martinsburg, WV (MRB) | VORTAC | (Lat. 39°23′08.06″ N, long. 077°50′54.08″ W)
CPTAL, MD | WP | (Lat. 39°32′16.02″ N, long. 077°41′55.65″ W)
TWIRK, MD | WP | (Lat. 39°34′36.70″ N, long. 077°12′44.75″ W)
BRILA, MD | WP | (Lat. 39°23′53.04″ N, long. 077°08′31.89″ W)
WOOLY, MD | FIX | (Lat. 39°20′19.18″ N, long. 077°02′11.17″ W)
DROSA, MD | WP | (Lat. 39°18′30.32″ N, long. 076°58′06.22″ W)
OBWON, MD | WP | (Lat. 39°11′54.69″ N, long. 076°32′04.84″ W)
SWANN, MD | FIX | (Lat. 39°09′05.28″ N, long. 076°13′43.94″ W)
ODESA, MD | FIX | (Lat. 39°29′29.00″ N, long. 075°49′44.37″ W)
APEER, MD | WP | (Lat. 39°37′32.94″ N, long. 075°50′25.39″ W)
REESY, PA | WP | (Lat. 39°45′27.94″ N, long. 075°52′07.09″ W)
FOLEZ, PA | WP | (Lat. 39°55′32.76″ N, long. 075°49′16.49″ W)
PIKKE, PA | WP | (Lat. 40°05′27.21″ N, long. 075°52′12.11″ W)
BOYER, PA | FIX | (Lat. 40°16′36.84″ N, long. 076°05′09.38″ W)
Ravine, PA (RAV) | VORTAC | (Lat. 40°33′12.21″ N, long. 076°35′57.77″ W)
Selinsgrove, PA (SEG) | VOR/DME | (Lat. 40°47′27.09″ N, long. 076°53′02.55″ W)
WIGGZ, PA | WP | (Lat. 41°30′51.00″ N, long. 077°58′52.00″ W)

Issued in Washington, DC, on February 21, 2025.
Brian Eric Konie,
Manager (A), Rules and Regulations Group.

[FR Doc. 2025-03117 Filed 2-26-25; 8:45 am]

BILLING CODE 4910-13-P